DEPARTMENT OF HOMELAND SECURITY

Coast Guard

33 CFR Parts 100 and 165

[Docket No. USCG-2012-0111]

RIN 1625-AA00; 1625-AA08

Special Local Regulation and Safety Zones; Marine Events in Captain of the Port Sector Long Island Sound Zone

AGENCY: Coast Guard, DHS.

ACTION: Notice of proposed rulemaking.

SUMMARY: The Coast Guard proposes to establish temporary special local regulations and safety zones for marine events on the navigable waters within the Captain of the Port (COTP) Sector Long Island Sound zone for regattas, fireworks displays and swim events. This action is necessary to provide for the safety of life on navigable waters during the events. Entering into, transiting through, remaining, anchoring or mooring within these regulated areas would be prohibited unless authorized by the COTP Sector Long Island Sound.

DATES: Comments and related material must be received by the Coast Guard on or before May 4, 2012.

Requests for public meetings must be received by the Coast Guard on or before April 25, 2012.

ADDRESSES: You may submit comments identified by docket number USCG-2012-0111 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email Petty Officer Joseph Graun, Prevention Department, Coast Guard Sector Long Island Sound, (203) 468-4544, Joseph.L.Graun@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2012-0111), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number USCG-2012-0111 in the “SEARCH” box and click “SEARCH.” Click on “Submit a Comment” on the line associated with this rulemaking. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, type the docket number USCG-2012-0111 in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one April 25, 2012 using one of the four methods specified under ADDRESSES. Please explain why you believe a public meeting would be beneficial. If we determine that one would aid this rulemaking, we will hold one at a time and place announced by a later notice in the Federal Register.

Basis and Purpose

The legal basis for this temporary rule is 33 U.S.C. 1226, 1231, 1233; 46 U.S.C. Chapters 454, 701, 3306, 3703; 50 U.S.C. 191, 195; 33 CFR 1.05-1, 6.04-1, 6.04-6 and 160.5; Pub. L. 107-295, 116 Stat. 2064; Department of Homeland Security Delegation No. 0170.1 which collectively authorize the Coast Guard to define regulatory special local regulations and safety zones.

This temporary rule proposes to establish special local regulations and safety zones in order to provide for the safety of life on navigable waterways during regattas, fireworks displays and swim events.

Discussion of Proposed Rule

This temporary rule proposes special local regulations for two regattas, and safety zones for thirteen fireworks displays and two swimming events set to take place within the COTP Sector Long Island Sound Zone. These events are scheduled to take place between June and August of 2012.

A safety zone is proposed for each fireworks display listed in TABLE 1 to § 165.T01-0111 including all navigable waters within a 1000 foot radius of the launch platform.

6 | June
6.1 Salute to Veterans Fireworks | • Location: Waters of Reynolds Channel West of the loop parkway Bridge in Hempstead, NY.
7 | July
7.1 Devon Yacht Club Fireworks | • Location: Waters of Napeague Bay, in Block Island Sound off Amagansett, NY.
7.2 Dolan Family Fourth Fireworks | • Location: Water of Oyster Bay Harbor in Long Island Sound north of the Cove Neck peninsula in Oyster Bay, NY.
7.3 Davis Park Fireworks | • Location: Waters of the Great South Bay north of Davis Park, NY.
7.4 Islip Fireworks | • Location: Waters of the Great South Bay off Bay Shore Manor Park, Islip, NY.
7.5 Madison Fireworks | • Location: Waters of Long Island Sound off Madison Beach in Madison, CT.
7.6 Stratford Fireworks | • Location: Waters of Long Island Sound surrounding Short Beach Park in Stratford, CT in approximate position 41°09′50.82″ N, 073°6′47.13″ W (NAD 83).
7.7 Rowayton Fireworks | • Location: Waters of Long Island Sound south of Bayley Beach Park in Rowayton, CT.
7.8 Quarentello Wedding Fireworks | • Location: Waters of the Great South Bay south east of Brown Point in Sayville, NY.
7.9 Niantic Bay Fireworks | • Location: Waters of Niantic Bay 1500 feet west of the Niantic River Railroad Bridge in Niantic, CT.
8 | August
8.1 Shelter Island Yacht Club Fireworks | • Location: Waters of Dering Harbor north of the Shelter Island yacht Club in Shelter Island, NY.
8.2 Stamford Fireworks | • Location: Waters of Stamford Harbor, South of Kosciuszco Park in Stamford, CT.
11 | November
1 Charles W. Morgan Anniversary Fireworks | • Location: Waters of the Mystic River, north of the Mystic Seaport Light in Mystic, CT.

A safety zone is proposed for each swim event listed in TABLE 2 to § 165.T01.0111 including all navigable waters within the defined swim area.

1 Waves of Hope Swim | • Location: All waters of the Great South Bay off Amityville, NY Bound by Clocks Boulevard to the West, Tanner Park to the East and shoreward of a line 1000 feet offshore.
2 Stonewall Swim | • Location: All navigable waters of the Great South Bay within an three miles long and half mile wide rectangle box connecting the following points. Beginning Snedecor Avenue in Bayport, NY to Porgie Walk in Fire Island, NY.

A special local regulation is proposed for each regatta listed in TABLE 1 to § 100.35T01-0111 including all navigable waters associated with each event's location.

1 Hartford Dragon Boat Regatta | • Regulated area: All waters of the Connecticut River in Hartford, CT between the Bulkeley Bridge and the Wilbur Cross Bridge.
2 Kayak for a Cause Regatta | • Regulated area: All water of Long Island Sound within a nine mile long and half mile wide rectangle shaped regatta course connecting Norwich, CT and Crab Meadow, NY.

Exact locations with coordinates are listed in the regulatory text below List of Subjects.

All fireworks events would be enforced from 8:30 p.m. until 10 p.m. on the date specified in TABLE 1 to § 165.T01-0111. All other regulated areas will be enforced during the dates and times listed with the event details in their respective table. In three cases, the Davis Park Fireworks, Charles W. Morgan Anniversary Fireworks and Waves of Hope Swim, the event sponsors have not yet determined specific dates for their events. The event sponsors have provided a range of possible dates that are listed in the respective tables in the regulatory text below List of Subjects. The Coast Guard will publish the specific dates for the events in the final rule.

Because large numbers of spectator vessels are expected to congregate around the location of these events, these regulated areas are necessary to protect both spectators and participants from the safety hazards created by them; including large numbers of swimmers, hard to see and unstable small boats, unexpected pyrotechnics detonation, and burning debris. This proposed rule would temporarily establish regulated areas to restrict vessel movement around the location of each event to reduce the safety risks associated with them.

During the enforcement periods, persons and vessels would be prohibited from entering, transiting through, remaining, anchoring or mooring within the regulated areas unless specifically authorized by the COTP Sector Long Island Sound or designated representative. Persons and vessels would be able to request authorization to enter, transit through, remain, anchor or moor within the regulated areas by contacting the COTP Sector Long Island Sound by telephone at (203) 468-4401, or designated representative via VHF radio on channel 16. If authorization to enter, transit through, remain, anchor or moor within any of the regulated areas is granted, all persons and vessels receiving authorization would be required to comply with the instructions of the COTP or designated representative.

The Coast Guard COTP Sector Long Island Sound or designated representatives will enforce the regulated areas. These designated representatives are comprised of commissioned, warrant, and petty officers of the Coast Guard. The Coast Guard may be assisted by other federal, state and local agencies in the enforcement of these regulated areas.

To aid the public in identifying the launch platforms; fireworks barges used for these displays will have a sign on their port and starboard side labeled “FIREWORKS—STAY AWAY.” This sign will consist of 10 inch high by 1.5 inch wide red lettering on a white background. Shore launch sites will display a sign labeled “FIREWORKS—STAY AWAY” with the same dimensions.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The Coast Guard determined that this rulemaking would not be a significant regulatory action for the following reasons: The regulated areas will be of limited duration and cover only a small portion of the navigable waterways. Furthermore, vessels may transit the navigable waterways outside of the regulated areas. Persons or vessels requiring entry into the regulated areas may be authorized to do so by the COTP Sector Long Island Sound or designated representative.

Advanced public notifications will also be made to the local maritime community through the Local Notice to Mariners as well as Broadcast Notice to Mariners.

Small Entities

Under the Regulatory Flexibility Act (5 U.S.C. 601-612), we have considered the impact of this proposed rule on small entities. The term “small entities” comprises small businesses, not-for-profit organizations that are independently owned and operated and are not dominant in their fields, and governmental jurisdictions with populations of less than 50,000. The Coast Guard certifies under 5 U.S.C. 605(b) that this proposed rule would not have a significant economic impact on a substantial number of small entities. This rule will affect the following entities, some of which may be small entities: The owners or operators of vessels intending to enter, transit, anchor or moor within the regulated areas during the enforcement periods stated for each event listed below in the List of Subjects.

The temporary special local regulations and safety zones will not have a significant economic impact on a substantial number of small entities for the following reasons: The regulated areas will be of limited size and of short duration, vessels that can safely do so may navigate in all other portions of the waterways except for the areas designated as regulated areas, and vessels requiring entry into the regulated areas may be authorized to do so by the COTP Sector Long Island Sound or designated representative. Additionally, before the effective period, notifications will be made to the local maritime community through the Local Notice to Mariners and Broadcast Notice to Mariners well in advance of the events.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Petty Officer Joseph Graun, Prevention Department, U.S. Coast Guard Sector Long Island Sound, (203) 468-4544, Joseph.L.Graun@uscg.mil. The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on the States, on the relationship between the national government and the States, or on the distribution of power and responsibilities among the various levels of government. We have analyzed this proposed rule under that Order and determined that this rule does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under ADDRESSES. This rule appears to be categorically excluded, under figure 2-1, paragraph (34) (g)&(h), of the Instruction. This rule proposes to establish special local regulations and safety zones. We seek any comments or information that may lead to the discovery of a significant environmental impact from this proposed rule.

List of Subjects

33 CFR Part 100

Marine safety, Navigation (water), Reporting and recording requirements, Waterways.

33 CFR Part 165

Harbors, Marine safety, Navigation (water), Reporting and recordkeeping requirements, Security measures, and Waterways.

For the reasons discussed in the preamble, the Coast Guard proposes to amend 33 CFR parts 100 and 165 as follows:

PART 100—SAFETY OF LIFE ON NAVIGABLE WATERS

1. The authority citation for part 100 continues to read as follows:

Authority: 33 U.S.C. 1233.

2. Add Sec. 100.35T01-0111 to read as follows:

§ 100.35T01-0111 Special Local Regulations; Regattas in the Coast Guard Sector Long Island Sound Captain of the Port Zone.

(a) Regulations. (1) The following regulations apply to the marine events listed in TABLE 1 to § 100.35T01-0111. These regulations will be enforced for the duration of each event, on the dates indicated. Notifications will be made to the local maritime community through all appropriate means such as Local Notice to Mariners or Broadcast Notice to Mariners well in advance of the events. First Coast Guard District Local Notice to Mariners can be found at: http://www.navcen.uscg.gov/.

(b) Definitions. The following definitions apply to this section:

(1) Designated Representative. A “designated representative” is any Coast Guard commissioned, warrant or petty officer of the U.S. Coast Guard who has been designated by the Captain of the Port (COTP), Sector Long Island Sound, to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP Sector Long Island Sound.

(3) Spectators. All persons and vessels not registered with the event sponsor as participants or official patrol vessels.

(c) Vessel operators desiring to enter or operate within the regulated areas shall contact the COTP Sector Long Island Sound at 203-468-4401 (Sector LIS command center) or the designated representative via VHF channel 16.

(d) Vessels may not transit the regulated areas without the COTP Sector Long Island Sound or designated representative approval. Vessels permitted to transit must operate at a no wake speed, in a manner which will not endanger participants or other crafts in the event.

(e) Spectators or other vessels shall not anchor, block, loiter, or impede the transit of event participants or official patrol vessels in the regulated areas during the effective dates and times, or dates and times as modified through the Local Notice to Mariners, unless authorized by COTP Sector Long Island Sound or designated representative.

(f) The COTP Sector Long Island Sound or designated representative may control the movement of all vessels in the regulated area. When hailed or signaled by an official patrol vessel, a vessel shall come to an immediate stop and comply with the lawful directions issued. Failure to comply with a lawful direction may result in expulsion from the area, citation for failure to comply, or both. The COTP Sector Long Island Sound or designated representative may delay or terminate any marine event in this subpart at any time it is deemed necessary to ensure the safety of life or property.

(g) For all regattas listed, vessels not participating in the event, swimmers, and personal watercraft of any nature are prohibited from entering or moving within the regulated area unless authorized by the COTP Sector Long Island Sound or designated representative. Vessels within the regulated area must be at anchor within a designated spectator area or moored to a waterfront facility in a way that will not interfere with the progress of the event.

Table 1 to § 100.35T01-0111
1 Hartford Dragon Boat Regatta | • Dates: August 18 and 19, 2012.
| • Time 8 a.m. until 4:30 p.m. each day.
| • Regulated area: All waters of the Connecticut River in Hartford, CT between the Bulkeley Bridge 41°46′10.10″ N, 072°39′56.13″ W and the Wilbur Cross Bridge 41°45′11.67″ N, 072°39′13.64″ W North American Datum 1983 (NAD 83).
2 Kayak for a Cause Regatta | • Date: July 21, 2012.
| • Time: 8 a.m. until 3 p.m.
| • Regulated area: All water of Long Island Sound within a nine mile long and half mile wide rectangle shaped regatta course connecting Norwich, CT and Crab Meadow, NY. The regulated area beginning in Norwich CT east of Shady Beach at 41°5′32.24″ N, 073°23′11.18″ W then heads south crossing Long Island Sound to a point east of Crab Meadow Beach, Crab Meadow, NY at 40°55′37.21″ N, 073°19′2.14″ W then turns west connecting to a point west of Crab Meadow Beach at 40°55′48.3″ N, 073°19′51.88″ W, then turns north crossing Long Island Sound to the western boundary of Calf Pasture Beach Norwich, CT at 41°4′57.54″ N, 073°23′53.21″ W then turns east back to its starting point at 41°5′32.24″ N, 073°23′11.18″ W North American Datum 1983 (NAD 83).
| • Additional stipulations: (1) Spectators must maintain a minimum distance of 100 yards from each event participant and support vessel. (2) Vessels that maintain the minimum required distance from event participants and support vessels may transit through the regatta course.

PART 165—REGULATED NAVIGATION AREAS AND LIMITED ACCESS AREAS

3. The authority citation for Part 165 continues to read as follows:

Authority: 33 U.S.C. 1226, 1231; 46 U.S.C. Chapters 454, 701, 3306, 3703; 50 U.S.C. 191, 195; 33 CFR 1.05-1, 6.04-1, 6.04-6 and 160.5; Pub. L. 107-295, 116 Stat. 2064; Department of Homeland Security Delegation No. 0170.1.

4. Add § 165.T01-0111 to read as follows:

§ 165.T01-0111 Safety Zones; Fireworks Displays and Swim Events in Captain of the Port Long Island Sound Zone.

(a) Regulations. (1) The general regulations contained in 33 CFR 165.23 as well as the following regulations apply to the fireworks displays, air shows, and swim events listed in TABLE 1 and TABLE 2 of § 165.T01-0111.

These regulations will be enforced for the duration of each event. Notifications will be made to the local maritime community through all appropriate means such as Local Notice to Mariners or Broadcast Notice to Mariners well in advance of the events. Mariners should consult the Federal Register or their Local Notice to Mariners to remain apprised of schedule or event changes. First Coast Guard District Local Notice to Mariners can be found at http://www.navcen.uscg.gov/.

(b) Definitions. The following definitions apply to this section:

(1) Designated Representative. A “designated representative” is any Coast Guard commissioned, warrant or petty officer of the U.S. Coast Guard who has been designated by the Captain of the Port (COTP), Sector Long Island Sound, to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP Sector Long Island Sound.

(3) Spectators. All persons and vessels not registered with the event sponsor as participants or official patrol vessels.

(c) Vessel operators desiring to enter or operate within the regulated areas should contact the COTP Sector Long Island Sound at 203-468-4401 (Sector LIS command center) or the designated representative via VHF channel 16 to obtain permission to do so.

(d) Spectators or other vessels shall not anchor, block, loiter, or impede the transit of event participants or official patrol vessels in the regulated areas during the effective dates and times, or dates and times as modified through the Local Notice to Mariners, unless authorized by COTP Sector Long Island Sound or designated representative.

(e) Upon being hailed by a U.S. Coast Guard vessel or the designated representative, by siren, radio, flashing light or other means, the operator of the vessel shall proceed as directed. Failure to comply with a lawful direction may result in expulsion from the area, citation for failure to comply, or both.

(f) The COTP Sector Long Island Sound or designated representative may delay or terminate any marine event in this subpart at any time it is deemed necessary to ensure the safety of life or property.

(g) The regulated area for all fireworks displays listed in TABLE 1 to § 165.T01-0111 is that area of navigable waters within a 1000 foot radius of the launch platform or launch site for each fireworks display, unless otherwise noted in TABLE 1 to § 165.T01-0111 or modified in USCG First District Local Notice to Mariners at: http://www.navcen.uscg.gov/.

(h) Fireworks barges used in these locations will also have a sign on their port and starboard side labeled “FIREWORKS—STAY AWAY”. This sign will consist of 10 inch high by 1.5 inch wide red lettering on a white background. Shore sites used in these locations will display a sign labeled “FIREWORKS—STAY AWAY” with the same dimensions. These zones will be enforced from 8:30 p.m. to 10:30 p.m. each day a barge with a “FIREWORKS—STAY AWAY” sign on the port and starboard side is on-scene or a “FIREWORKS—STAY AWAY” sign is posted in a location listed in TABLE 1 to § 165.T01-0111.

(i) Enforcement period:

1. Each fireworks display will be enforced from 8:30 p.m. until 10 p.m. on the respective dates listed in Table 1 of § 165.T01-0111.

2. Each swim event will be enforced during the date and time listed in Table 2 of § 165.T01-0111.

Table 1 to § 165.T01-0111
6 | June
6.2 Salute to Veterans Fireworks | • Date: June 23, 2012.
| • Rain date: June 30, 2012.
| • Location: Waters of Reynolds Channel off Hempstead, NY in approximate position 40°35′36.62″ N, 073°35′20.72″ W (NAD 83).
7 | July
7.1 Devon Yacht Club Fireworks | • Date: July 7, 2012
| • Rain date: July 8, 2012.
| • Location: Waters of Napeague Bay, in Block Island Sound off Amagansett, NY in approximate position 40°59′41.4″ N, 072°6′8.7″ W (NAD 83).
7.2 Dolan Family Fourth Fireworks | • Date: July 4, 2012.
| • Rain date: July 5, 2012.
| • Location: Waters of Oyster Bay Harbor in Long Island Sound off Oyster Bay, NY in approximate position 40°53′42.50″ N, 073°30′04.30″ W (NAD 83).
7.3 Davis Park Fireworks | • Date: A single day between the last weekend of June or first weekend of July 2012 an exact day will be announced in the final rule.
| • Location: Waters of the Great South Bay north of Davis Park, NY in approximate position, 40°41′38.23″ N, 073°00′21.54″ W (NAD 83).
7.4 Islip Fireworks | • Date: July 4, 2012.
| • Rain date: July 5, 2012.
| • Location: Waters of the Great South Bay off Bay Shore Manor Park, Islip, NY in approximate position 40°42′24″ N, 073°14′24″ W (NAD 83).
7.5 Madison Fireworks | • Date: July 4, 2012.
| • Rain date: July 7, 2012
| • Location: Waters of Long Island Sound off Madison Beach in Madison, CT in approximate position 41°16′3.93″ N, 072°36′15.97″ W (NAD 83).
7.6 Stratford Fireworks | • Date: July 3, 2012.
| • Rain date: July 5, 2012.
| • Location: Waters of Long Island Sound surrounding Short Beach Park in Stratford, CT in approximate position 41°09′50.82″ N, 073°6′47.13″ W (NAD 83).
7.7 Rowayton Fireworks | • Date: July 4, 2012.
| • Rain date: July 5, 2012.
| • Location: Waters of Long Island Sound south of Bayley Beach Park in Rowayton, CT in approximate position 41°03′11″ N, 073°26′41″ W (NAD 83).
7.8 Quarentello Wedding Fireworks | • Date: July 21, 2012.
| • Rain date: None
| • Location: Waters of the Great South Bay south east of Brown Point in Sayville, NY in approximate position 40°43′19″ N, 073°03′53″ W (NAD 83).
7.9 Niantic Bay Fireworks | • Date: July 6, 2012.
| • Rain date: July 7, 2012.
| • Location: Waters of Niantic Bay 1500 feet west of the Niantic River Railroad Bridge in Niantic, CT in approximate position 41°19′22.59″ N, 072°11′3.47″ W (NAD 83).
8 | August
8.1 Shelter Island Yacht Club Fireworks | • August 11, 2012. • Rain date: August 12, 2012.
| • Location: Waters of Dering Harbor north of Shelter Island Yacht Club in Shelter Island, NY in approximate position 41°05′23.47″ N, 072°21′11.18″ W (NAD 83).
8.2 Stamford Fireworks | • Date: August 30, 2012.
| • Rain date: August 31, 2012.
| • Location: Waters of Stamford Harbor, off Kosciuszco Park in Stamford, CT in approximate position 41°1′48.46″ N, 073°32′15.32″ W (NAD 83).
11 | November
1 Charles W. Morgan Anniversary Fireworks | • Date: A single day between November 3, and November 10, 2012 an exact day will be announced in the final rule.
| • Location: Waters of the Mystic River, north of the Mystic Seaport Light, Mystic, CT in approximate position 41°21′56.455″ N, 071°57′58.32″ W (NAD 83).

Table 2 to § 165.T01-0111
| July & August
1 Waves of Hope Swim | • Date: A single weekday during the last week of June or first two weeks of July 2012 an exact day will be announced in the final rule.
| • Time: 10 a.m. until 12:01 p.m.
| • Location: All waters of the Great South Bay off Amityville, NY shoreward of a line created by connecting the following points. Beginning at 40°39′22.38″ N, 073°25′31.63″ W then to 40°39′2.18″ N, 073°25′31.63″ W then to 40°39′2.18″ N, 073°24′03.81″ W, ending at 40°39′18.27″ N, 073°24′03.81″ W North American Datum 1983 ( NAD 83).
2 Stonewall Swim | • Date: August 4, 2012.
| • Time: 8:30 a.m. until 12:30 p.m.
| • Location: All navigable waters of the Great South Bay within an three miles long and half mile wide box connecting Snedecor Avenue in Bayport, NY to Porgie Walk in Fire Island, NY. Formed by connecting the following points. Beginning at 40°43′40.24″ N, 073°03′41.5″ W then to 40°43′40″ N, 073°03′13.4″ W, then to 40°40′4.13 N, 073°03′43.81″ W then to 40°40′8.3″ N, 073°03′17.7″ W and ending at the beginning point 40°43′40.24″ N, 073°03′41.5″ W (NAD 83).

Dated: March 12, 2012.
J.M. Vojvodich,
Captain, U.S. Coast Guard, Captain of the Port Sector Long Island Sound.

[FR Doc. 2012-7964 Filed 4-3-12; 8:45 am]

BILLING CODE 9110-04-P